DEPARTMENT OF THE INTERIOR

Fish and Wildlife Service

[FWS-R1-R-2010-N243; 1265-0000-10137-S3]

Lewis and Clark National Wildlife Refuge and Julia Butler Hansen Refuge for the Columbian White-Tailed Deer, Wahkiakum County, WA, and Clatsop and Columbia Counties, OR; Record of Decision for Final Environmental Impact Statement

AGENCY: Fish and Wildlife Service, Interior.

ACTION: Notice of availability.

SUMMARY: We, the U.S. Fish and Wildlife Service (Service), announce the availability of the record of decision (ROD) for the final environmental impact statement (EIS) for the Lewis and Clark National Wildlife Refuge and Julia Butler Hansen Refuge for the Columbian White-tailed Deer (Refuges). We completed a thorough analysis of the environmental, social, and economic considerations and presented it in our final EIS, which we released to the public on August 13, 2010.

DATES: The Acting Regional Director, Pacific Region, U.S. Fish and Wildlife Service, signed the ROD on September 23, 2010. We can implement the CCP immediately.

ADDRESSES: You may view or obtain copies of the final CCP and ROD by any of the following methods:

Agency Web Site: Download a copy of the document(s) at http://www.fws.gov/pacific/planning/.

Email: FW1PlanningComments@fws.gov. Include “Lewis and Clark and Julia Butler Hansen ROD” in the subject line of the message.

Mail: Willapa National Wildlife Refuge Complex, 3888 SR 101, Ilwaco, WA 98624.

Fax: (360) 484-3109.

In person viewing: Copies of the final CCP/EIS may be viewed at the Willapa National Wildlife Refuge Complex, 3888 SR 101, Ilwaco, WA 98624; and the Julia Butler Hansen Refuge for the Columbian White-tailed Deer, 46 Steamboat Slough Road, Cathlamet, WA 98612.

Local Libraries: The final documents are also available for review at the libraries listed under SUPPLEMENTARY INFORMATION.

FOR FURTHER INFORMATION CONTACT: Charlie Stenvall, (360) 484-3482.

SUPPLEMENTARY INFORMATION:

Introduction

This notice completes the CCP process for the Refuges. We started the process in a Federal Register notice (71 FR 55214; September 21, 2006). We released the draft CCP/EIS to the public, announcing and requesting comments in a notice of availability in the Federal Register (75 FR 6694; February 10, 2010). We announced the availability of the final CCP/EIS in the Federal Register (75 FR 49516) on August 13, 2010.

The Lewis and Clark Refuge was established in 1972 to preserve vital fish and wildlife habitat of the Columbia River estuary. The Refuge's islands in the Columbia River encompass a variety of habitat types, from tidal sand flats and marshes to forested swamps. This combination of habitats supports large numbers of waterfowl, gulls, terns, wading birds, shorebirds, and a variety of raptors and songbirds. The Lewis and Clark Refuge's islands are accessible by boat, and include 18 named islands, a number of unnamed islands, and marshes stretching over 25 miles of the Columbia River.

The Julia Butler Hansen Refuge for the Columbian White-tailed Deer was established in 1971 to protect and manage the endangered Columbian white-tailed deer (CWT deer). The Refuge contains over 6,000 acres of pastures, forested tidal swamps, brushy woodlots, marshes, and sloughs along the Columbia River.

In accordance with National Environmental Policy Act (NEPA) (40 CFR 1506.6(b)) requirements, this notice announces the availability of the ROD for the final EIS and CCP for the Refuges. We completed a thorough analysis of the environmental, social, and economic considerations, which we included in the final CCP/EIS. We included two alternatives for the Lewis and Clark Refuge and three alternatives for the Julia Butler Hansen Refuge. For Lewis and Clark Refuge, Alternative 1 was the no-action alternative and Alternative 2 was the preferred alternative. For Julia Butler Hansen Refuge, Alternative 1 was our no-action alternative, Alternative 2 was our preferred alternative, and Alternative 3 was similar to Alternative 2 except that the timeframe for predator management would have been limited to January through August. For both Refuges, we selected Alternative 2, our preferred alternative, for implementation. The ROD documents our selections.

The CCP will guide us in managing and administering the Refuges for the next 15 years. For each of the two refuges, the selected alternative, as we described in the final EIS and ROD, is the foundation for the CCP.

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Refuge Administration Act.

CCP Alternatives and Selected Alternatives

We identified several issues in our draft CCP/EIS. To address these, we developed and evaluated management alternatives for the Refuges as required under the Council on Environmental Quality's regulations (40 CFR 1500-1508). A summary of each alternative follows.

Lewis and Clark Refuge Alternative 1

No changes to the Refuge's current management programs would occur under Alternative 1. Habitat management would consist of monitoring Refuge islands and treating invasive plant infestations as funding allows. Refuge staff members would continue to protect and maintain wintering and foraging habitat for migratory waterfowl, and nesting and roosting habitat for bald eagles. Hunting, fishing, wildlife observation, and photography would continue at current levels.

Lewis and Clark Refuge Alternative 2

Under Alternative 2 (the preferred alternative), current wildlife and habitat management would be maintained and improved. Key Refuge enhancements would include establishing or expanding partnerships for managing invasive species, recruiting graduate students to conduct wildlife and habitat research, and exploring options for managing Oregon Department of State Lands property within the approved Refuge boundary. The Refuge would also expand opportunities for wildlife observation and photography, evaluate the Refuge's Wilderness Study Area (WSA) for a wilderness designation proposal, and work with partners to ensure that dredge-spoil islands provide benefits for wildlife.

Julia Butler Hansen Refuge Alternative 1

Under Alternative 1, no changes to the current Refuge management programs would occur at Julia Butler Hansen Refuge. We would continue to maintain and protect habitats, establish early successional riparian forest habitat, maintain predator management January through April, and continue public use programs.

Julia Butler Hansen Refuge Alternative 2

Refuge management changes under Alternative 2 (the preferred alternative) would include opening Crims and Price Islands to waterfowl hunting, closing portions of Refuge lands along the lower Elochoman River to waterfowl hunting for public safety purposes, evaluating the Refuge's WSA for a wilderness designation proposal, developing two trails, and improving interpretive media. To achieve CWT deer recovery goals, predator management would take place as needed, year round, and we would expand the CWT deer population by establishing an experimental population upriver.

Julia Butler Hansen Refuge Alternative 3

Refuge management changes under Alternative 3 would include opening Crims and Price Islands to waterfowl hunting, closing portions of Refuge lands along the lower Elochoman River to waterfowl hunting for public safety purposes, studying potential wilderness lands, developing a bicycling and hiking trail, installing interpretive panels, and developing curriculum for Refuge study sites. To achieve CWT deer recovery goals, predator management would take place January through August under this alternative.

After considering the comments we received, we have selected Alternative 2 for each Refuge. Alternative 2 was selected for implementation for the Lewis and Clark Refuge because it will best achieve Refuge purposes and fulfill the Service's mission. It is consistent with the principles of sound wildlife management, and will facilitate priority public uses that are compatible with the purposes of the Refuge. This alternative is based on a land management approach that protects natural resources, habitats, and landscapes, while allowing for recreational public uses. This management approach will be effective for protecting Refuge resources, improving public information, working with our partners, and providing research opportunities on the Refuge for graduate students. Studying the Refuge islands' 6,745-acre WSA will enable us to assess a proposal for possible wilderness designation.

Alternative 2 was selected for implementation for the Julia Butler Hansen Refuge because it will best achieve the Refuge purposes and fulfill the Service's mission. It is consistent with the principles of sound wildlife management, and will facilitate priority public uses that are compatible with the purposes of the Refuge. We will incorporate several new components to current management by addressing a variety of resource needs, while improving CWT deer protection with a focus on recovery. Recovery measures include an opportunity for an experimental CWT deer population upriver, expanded habitat restoration, and increased predator control, as needed, year-round. Other actions include conducting research for management purposes and improving priority public use opportunities. The combination of these components will contribute to achieving the Refuge's vision, purposes, and goals. Implementing this alternative will provide an achievable balance of opportunities for priority public uses (hunting, fishing, wildlife observation and photography, and environmental education and interpretation), while providing sufficient protection and sanctuary areas for endangered CWT deer, other wildlife, and their habitats. Studying the 1,344-acre WSA for Wallace and Hunting Islands will enable us to assess a proposal for wilderness designation.

Public Availability of Documents

In addition to the methods in ADDRESSES, you can view our CCP at the following libraries:

• Blanch Bradley Library, 100 Main Street, Cathlamet, WA 98612.

• Astoria Public Library, 450 10th Street, Astoria, OR 97103.

• Clatskanie Library District, 11 Lillich Street, Clatskanie, OR 97016.

• Ilwaco Timberline Regional Library, 158 1st Ave., Ilwaco, WA 98624.

• Longview Public Library, 1600 Louisiana Street, Longview, WA 98632.

• Fort Vancouver Regional Library, 1007 E. Mill Plain Blvd., Vancouver, WA 98663.

Dated: November 30, 2011.
Richard Hannan,
Acting Regional Director, Region 1, Portland, Oregon.

[FR Doc. 2011-31811 Filed 12-9-11; 8:45 am]

BILLING CODE 4310-55-P